DEPARTMENT OF HEALTH AND HUMAN SERVICES

Agency for Healthcare Research and Quality

Statement of Delegation of Authority

Notice is hereby given that I have delegated to the Director, Agency for Healthcare Research and Quality (AHRQ), the authorities vested in the Secretary of the Department of Health and Human Services under Section 204, of the Medicare Improvements for Patients and Providers Act of 2008, Public Law 110-275, as amended, pertaining to contracting with the Institute of Medicine for reports on best practices for conducting systematic reviews of clinical effectiveness research and for developing clinical protocols.

This delegation shall be exercised in accordance with the Department's applicable policies, procedures, guidelines and regulations.

In addition, the delegation ratifies and affirms any actions taken by you or your subordinates that involved the exercise of the authorities delegated herein prior to the effective date of this delegation.

This delegation is effective upon date of signature.

Dated: February 9, 2009.
Charles E. Johnson,
Acting Secretary.

[FR Doc. E9-3837 Filed 2-24-09; 8:45 am]

BILLING CODE 4160-90-M